DEPARTMENT OF DEFENSE

Defense Acquisition Regulations System

Acquisition of Items for Which Federal Prison Industries Has a Significant Market Share

AGENCY: Department of Defense (DoD).

ACTION: Notice; correction.

SUMMARY: This document corrects the effective date for the notice published in the Federal Register on February 8, 2012, regarding the notification that provided an up-to-date list of product categories for which the Federal Prison Industries' share of the DoD market is greater than five percent.

DATES: Effective Date: February 12, 2012.

FOR FURTHER INFORMATION CONTACT: Director, Defense and Acquisition Policy, Attn: Susan Pollack, 3060 Defense Pentagon, Washington, DC 20301-3060; telephone 703-697-8336.

Correction

In the notice published February 8, 2012, at 77 FR 6549, make the following correction to “DATES: Effective Date: February 8, 2012” by correcting the effective to read:

“DATES: Effective Date: February 12, 2012.”

Mary Overstreet,
Editor, Defense Acquisition Regulations System.

[FR Doc. 2012-3530 Filed 2-14-12; 8:45 am]

BILLING CODE 5001-06-P